DEPARTMENT OF JUSTICE

CERCLA Consent Decree for Settlement of Response Costs and Civil Penalty Claims Associated With the River Terrace RV Park Site

AGENCY: Department of Justice.

ACTION: Notice of availability for public comment.

Authority: 28 CFR 50.7

Notice is hereby given that on November 23, 2005, a CERCLA Consent Decree For Settlement Of Response Costs And Civil Penalty Claims Associated With The River Terrace RV Park Site (“Consent Decree”) in United States v. Gary C. Hinkle and Judith A. Hinkle, Docket No. A05-0111 CV (RRB), was lodged with the United States District Court for the District of Alaska. In this action brought pursuant to Sections 107, 109 and 122 of the Comprehensive Environmental Response, Compensation, and Liability Act of 1980, as amended (“CERCLA”), 42 U.S.C. 9607, 9609 and 9622, the United States is seeking: (1) The reimbursement of response costs incurred in connection with a removal action at the River Terrace RV Park Site in Soldotna, Alaska; and (2) a civil penalty for the failure of the Hinkles to abide by the terms of a 1997 Administrative Order on Consent for Removal Action (“AOC”) that they entered into with the Environmental Protection Agency (EPA), under which they agreed to reimburse EPA for the United States' costs incurred in connection with, inter alia, overseeing the Hinkles' conduct of the removal action in accordance with the AOC and enforcing the AOC.

The Consent Decree requires two payments from the Hinkles—one reimbursement the United States' response costs in the amount of $241,000.00, the second a civil penalty of $7,500.00.

The Department of Justice will receive for a period of thirty (30) days from the date of this publication comments relating to the Consent Decree.

Comments should be addressed to the Assistant Attorney General, Environment and Natural Resources Division, United States Department of Justice and sent to 801 B Street, Suite 504, Anchorage, Alaska 99501-3657. Comments should refer to United States v. Gary C. Hinkle and Judith A. Hinkle, D.J. Ref. #90-11-3-07377. During the public comment period, the Consent Decree may be examined during business hours at the same address by contacting Lorraine Carter (907-271-5452) or on the following Department of Justice Web site, http://www.usdoj.gov/enrd/open.html. A copy of the Consent Decree may be obtained by contacting Lorraine Carter in writing at the address above or via electronic mail (lorraine.carter@usdoj.gov). In requesting a copy by mail, please enclose a check in the amount of $3.50 (25 cents per page reproduction cost) payable to the U.S. Treasury. This amount does not include costs for reproduction of Appendix A to the Consent Decree (a copy of the AOC). If you would like a copy of Appendix A in addition to a copy of the Consent Decree, please send a check in the amount of $11.50.

Robert E. Maher, Jr.,
Assistant Section Chief, Environmental Enforcement Section, Environment and Natural Resources Division.

[FR Doc. 05-23742 Filed 12-7-05; 8:45 am]

BILLING CODE 4410-15-M